DEPARTMENT OF LABOR

Employment and Training Administration

[TA-W-80,092]

Covidien, Formerly Aspect Medical, R & MS Division, Including On-Site Leased Workers From Kelly Services and Total Technical Services, Norwood, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 20, 2011, applicable to workers of Covidien, formerly Aspect Medical, R & MS Division, including on-site leased workers from Kelly Services, Norwood, Massachusetts. The workers are engaged in activities related to the production of medical sensors and monitors. The notice will be published soon in the Federal Register.

At the request of the State agency, the Department reviewed the certification for workers of the subject firm. New information shows that workers leased from Total Technical Services were employed on-site at the Norwood, Massachusetts location of Covidien, formerly Aspect Medical, R & MS Division.

The Department has determined that these workers were sufficiently under the control of Covidien, formerly Aspect Medical, R & MS Division to be considered leased workers.

The intent of the Department's certification is to include all workers of the subject firm adversely affected by the shift in production of medical sensors and monitors to Singapore.

Based on these findings, the Department is amending this certification to include workers leased from Total Technical Services working on-site at the Norwood, Massachusetts location of the subject firm.

The amended notice applicable to TA-W-80,092 is hereby issued as follows:

All workers of Covidien, formerly Aspect Medical, R & MS Division, including on-site leased workers from Kelly Services and Total Technical Services, Norwood, Massachusetts, who became totally or partially separated from employment on or after April 4, 2010, through May 20, 2013, are eligible to apply for adjustment assistance under Section 223 of the Trade Act of 1974, and are also eligible to apply for alternative trade adjustment assistance under Section 246 of the Trade Act of 1974.

Signed at Washington, DC, this 15th day of June 2011.
Michael W. Jaffe,
Certifying Officer, Office of Trade Adjustment Assistance.

[FR Doc. 2011-15844 Filed 6-23-11; 8:45 am]

BILLING CODE 4510-FN-P